DEPARTMENT OF TRANSPORTATION

Federal Railroad Administration

[Docket Number FRA-2013-0050]

Notice of Application for Approval of Discontinuance or Modification of a Railroad Signal System

In accordance with Part 235 of Title 49 Code of Federal Regulations (CFR) and 49 U.S.C. 20502(a), this document provides the public notice that by a document dated February 14, 2013, the Wisconsin Central Limited (WC) petitioned the Federal Railroad Administration (FRA) seeking approval for the discontinuance or modification of a signal system. FRA assigned the petition Docket Number FRA-2013-0050.

Applicant: Wisconsin Central Limited, Mr. Thomas W. Hilliard, Senior Manager S&C, Engineering Department, Southern Region, 17641 South Ashland Avenue, Homewood, IL 60430.

WC, which is a subsidiary of the Canadian National Railway (CN), seeks approval of the proposed discontinuance and removal of a traffic control system (TCS) from Milepost (MP) 44.4, Stockton 2, to MP 45.4, Kirk Yard Junction, including the removal of Control Point (CP) Kirk Yard Junction on the Matteson Subdivision in Gary, IN.

In its petition, WC states that it seeks the proposed changes because the reconfiguration of the entrance to the Kirk Yard requires that an existing main track be converted to a yard pull down track. At the present end of the TCS at Stockton 2, WC will convert the current three tracks to four tracks, creating two new yard leads. The TCS limits will begin and end at Stockton 2. All diverging routes in Stockton 2 will remain as part of the TCS on the Matteson Subdivision.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 22, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 3, 2013.
Robert C. Lauby,
Deputy Associate Administrator for Regulatory and Legislative Operations.

[FR Doc. 2013-13458 Filed 6-5-13; 8:45 am]

BILLING CODE 4910-06-P